COMMITTEE FOR PURCHASE FROM PEOPLE WHO ARE BLIND OR SEVERELY DISABLED

Procurement List Additions

AGENCY: Committee for Purchase From People Who Are Blind or Severely Disabled.

ACTION: Additions to the Procurement List.

SUMMARY: This action adds a product and service to the Procurement List that will be furnished by nonprofit agencies employing persons who are blind or have other severe disabilities.

DATES: Effective Date: 11/29/2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 9/11/2015 (80 FR 54768) and 9/18/2015 (80 FR 56450), the Committee for Purchase From People Who Are Blind or Severely Disabled published notices of proposed additions to the Procurement List.

After consideration of the material presented to it concerning capability of qualified nonprofit agencies to provide the product and service and impact of the additions on the current or most recent contractors, the Committee has determined that the product and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product and service to the Government.

2. The action will result in authorizing small entities to furnish the product and service to the Government.

3. There are no known regulatory alternatives which would accomplish the objectives of the Javits-Wagner-O'Day Act (41 U.S.C. 8501-8506) in connection with the product and service proposed for addition to the Procurement List.

End of Certification

Accordingly, the following product and service are added to the Procurement List:

Product

NSN(s)—Product Name(s): 1670-01-F05-1124—T-11R Parachute Insert, Army

Mandatory Source(s) of Supply: Chautauqua County Chapter, NYSARC, Jamestown, NY

Mandatory for: 100% of the requirement of the U.S. Army

Contracting Activity: Dept of the Army, W6QK ACC-APG Natick, Natick, MA

Distribution: C-List

Service

Service Type: Janitorial Service

Service Mandatory for: U.S. Geological Survey, 4611 Research Park Circle, Suites D and E, Las Cruces, NM

Mandatory Source(s) of Supply: Tresco, Inc., Las Cruces, NM

Contracting Activity: Dept of the Interior, Geological Survey, Office of Acquisition and Grants—Denver, Denver, CO

Barry S. Lineback,
Director, Business Operations.

[FR Doc. 2015-27686 Filed 10-29-15; 8:45 am]

BILLING CODE 6353-01-P